DEPARTMENT OF HEALTH AND HUMAN SERVICES

National Institutes of Health

Center for Scientific Review Amended; Notice of Meeting

Notice is hereby given of a change in the meeting of the Clinical Research and Field Studies of Infectious Diseases Study Section, October 07, 2013, 08:30 a.m. to October 08, 2013, 06:00 p.m., Residence Inn Bethesda, 7335 Wisconsin Avenue, Bethesda, MD, 20814 which was published in the Federal Register on September 17, 2013, 78 FR 180 Pgs. 57169-57170.

The meeting will start on December 18, 2013 at 8:00 a.m. and end December 18, 2013 at 6:00 p.m. The meeting location remains the same. The meeting is closed to the public.

Dated: October 29, 2013.
Michelle Trout,
Program Analyst, Office of Federal Advisory Committee Policy.

[FR Doc. 2013-26250 Filed 11-1-13; 8:45 am]

BILLING CODE 4140-01-P